FEDERAL RETIREMENT THRIFT INVESTMENT BOARD

Notice of Board Meeting

DATES: November 16, 2020 at 10:00 a.m.

ADDRESSES: Telephonic. Dial-in (listen only) information: Number: 1-877-446-3914, Code: 2094665.

FOR FURTHER INFORMATION CONTACT: Kimberly Weaver, Director, Office of External Affairs, (202) 942-1640.

SUPPLEMENTARY INFORMATION: Board Meeting Agenda

Open Session

1. Approval of the October 19, 2020 Board Meeting Minutes

2. Monthly Reports

(a) Investment Performance

(b) Legislative Report

3. Quarterly Reports

(c) Metrics

4. Multi-Asset Manager Update

Adjourn

Dated: November 4, 2020.
Dharmesh Vashee,
Acting General Counsel, Federal Retirement Thrift Investment Board.

[FR Doc. 2020-24779 Filed 11-6-20; 8:45 am]

BILLING CODE P